SURFACE TRANSPORTATION BOARD

60-Day Notice of Intent To Seek Extension and Modification of an Existing Collection: Urgent Rail Service Issues

AGENCY: Surface Transportation Board.

ACTION: Notice and request for comments.

SUMMARY: As part of its continuing effort to reduce paperwork burdens, and as required by the Paperwork Reduction Act of 1995 (PRA), the Surface Transportation Board (Board) gives notice of its intent to seek approval from the Office of Management and Budget (OMB) for an extension and modification of an existing and approved information collection, as described below. An emergency approval was granted for this collection (OMB Control Number 2140-0041), expiring on January 31, 2023. The Board is now seeking to extend and modify that collection with a submission through OMB's regular PRA clearance process.

DATES: Comments on these information collections should be submitted by January 3, 2023.

ADDRESSES: Direct all comments to Chris Oehrle, PRA Officer, Surface Transportation Board, 395 E Street SW, Washington, DC 20423-0001, or to PRA@stb.gov. When submitting comments, please refer to “Urgent Rail Service Issues.” For further information regarding this collection, contact Ian Anderson at (202) 245-0337 or Ian.Anderson@stb.gov. Assistance for the hearing impaired is available through the Federal Information Relay Service (FIRS) at 1-800-877-8339.

SUPPLEMENTARY INFORMATION: Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and summarized in the Board's request for OMB approval.

Subjects: In this notice, the Board is requesting comments on the following information collection:

Description of Collection

Title: Urgent Rail Service Issues.

OMB Control Number: 2140-0041.

STB Form Number: None.

Type of Review: Revision and extension of currently approved collection.

Respondents: Class I (Large) Railroads.

Number of Respondents: See Table 1 below.

Estimated Time per Response: See Table 1 below.

Frequency: One-time, bi-weekly and monthly, as provided in Table 1 below.

Total Burden Hours (annually including all respondents): 3,024 (sum of estimated hours per response × number of annual responses for each type of filing), as provided in Table 1 below.

Table 1—Total Estimated Burden Hours
Type of filing | Estimated hours per response | Number of respondents | Estimated frequency | Total burden hours
Service Progress Reports | 8 | 4 | 13 | 416
Weekly Performance Data | 8 | 7 | 26 | 1,456
Monthly Employment Data | 16 | 7 | 6 | 672
Interim Update | 120 | 4 | 1 | 480
Total Burden Hours |  |  |  | 3,024

Total Annual “Non-hour Burden” Cost: There are no non-hourly burden costs for this collection. The itemized sub-collections may be filed electronically.

Needs and Uses: Under the Interstate Commerce Act, as amended by the ICC Termination Act of 1995, the Board is responsible for the economic regulation of common carrier rail transportation. Under 49 U.S.C. 1321(b), 11123, and 11145(a), the Board is empowered to address immediate service issues. Collecting this information will enable the Board to take necessary action to timely deal with the unanticipated and urgent service issues affecting the U.S. rail system. These measures are meant to inform the Board's assessment of further actions that may be warranted to address the acute service issues facing the rail industry and to promote industry-wide transparency, accountability, and improvements in rail service.

At the Board's April 26 and 27, 2022 public hearing in Urgent Issues in Freight Rail Service, the Board received extensive testimony on severe rail service issues reported by a wide range of witnesses—including agricultural, energy, and other shippers, as well as government officials, rail labor, and rail experts. The Board has also continued to review and monitor weekly rail service performance data that indicated substantial deterioration in service. This information collection focuses on the adequacy of service recovery efforts involving BNSF Railway Company (BNSF), CSX Transportation (CSXT), Norfolk Southern Railway Company (NS), and Union Pacific Railroad Company UP), and it requires more comprehensive and customer-centric reporting of all Class I (large) railroads' service metrics.

In a decision served on May 6, 2022, the Board found that immediate action was needed to address significant service problems, and it ordered certain railroads to immediately submit relevant information. The Board took this action to better inform its assessment of actions that may be warranted to address rail service issues. In a decision served on June 13, 2022, the Board required UP, BNSF, CSXT, and NS to correct deficiencies in their service recovery plans and provide additional information on their actions to improve service and communications with customers.

Now, in a decision served on October 28, 2022, the Board extended the temporary reporting period for all seven Class I carriers and required certain updated information from UP, BNSF, CSXT, and NS. The Board directed these four carriers to continue to submit biweekly service progress reports for an additional six-month period, until May 5, 2023. The Board also directed all Class I railroads to submit weekly performance data during this period.

Although not all Class I carriers are experiencing service problems to the same degree, the U.S. rail system is an interconnected network and problems in one geographic area can quickly spread elsewhere. The application of certain reporting requirements to all Class I carriers allows the Board to assess the current service issues across the entire rail network. All Class I carriers must also continue to submit monthly employment data in this docket, as described in the May 6 Order. Specific instructions for this information collection and analysis of recent data are provided in the October 28 order.

The information received by the Board from this collection will continue to be filed in Docket No. EP 770 (Sub-No. 1) and will be publicly available at www.stb.gov. The information may be found by a search in that docket under the “proceedings and dockets” pull-down menu.

The Board makes this submission because, under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: October 31, 2022.
Kenyatta Clay,
Clearance Clerk.

[FR Doc. 2022-23948 Filed 11-2-22; 8:45 am]

BILLING CODE 4915-01-P